DEPARTMENT OF THE TREASURY

Agency Information Collection Activities; Submission for OMB Review; Comment Request; Coronavirus Capital Projects Fund

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before April 28, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION: Title: Coronavirus Capital Projects Fund.

OMB Control Number: 1505-0274.

Type of Review: Extension of a currently approved collection.

Description: Section 604 of the Social Security Act (the “Act”), as added by section 9901 of the American Rescue Plan Act of 2021, Public Law 117-2 (Mar. 11, 2021) established the Coronavirus Capital Projects Fund (“CPF”). The CPF provides $10 billion in funding for the U.S. Department of the Treasury (“Treasury”) to make payments according to a statutory formula to States (defined to include each of the 50 states, the District of Columbia, and Puerto Rico), seven territories and freely associated states (the United States Virgin Islands, Guam, American Samoa, the Commonwealth of the Northern Mariana Islands, the Republic of the Marshall Islands, the Federated States of Micronesia, and the Republic of Palau), and Tribal governments ¹ “to carry out critical capital projects directly enabling work, education, and health monitoring, including remote options, in response to the public health emergency with respect to the Coronavirus Disease (COVID-19).

¹ An eligible Tribal government is the recognized governing body of any Indian or Alaska Native tribe, band, nation, pueblo, village, community, component band, or component reservation, individually identified (including parenthetically) in the list published most recently as of the date of enactment of this Act pursuant to section 104 of the Federally Recognized Indian Tribe List Act of 1994 (25 U.S.C. 5131). The State of Hawaii, for exclusive use of the Department of Hawaiian Home Lands and the Native Hawaiian Education Programs to assist Native Hawaiians, is also eligible to apply for funding under this funding category.

Forms: Grant Applications (States, Territories, and Freely Associated States); Grant Applications (Tribal Governments); and Grant Plans (States, Territories, and Freely Associated States.

Affected Public: State, Tribal, Territorial, and Freely Associated State Governments.

Estimated Number of Respondents: 715.

Frequency of Response: Once.

Estimated Total Number of Annual Responses: 715.

Estimated Time per Response: 1 or 2 hours for Grant Applications. 60 hours for Grant Plans.

Estimated Total Annual Burden Hours: 4,793.

Authority: 44 U.S.C. 3501 et seq.

Molly Stasko,
Treasury PRA Clearance Officer.

[FR Doc. 2022-06534 Filed 3-28-22; 8:45 am]

BILLING CODE 4810-AK-P